DEPARTMENT OF DEFENSE

Office of the Secretary

[Docket ID: DoD-2024-HA-0021]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by July 8, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Reserve Component Health Coverage Request; DD Form 2896-1; OMB Control Number 0720-RCHC.

Type of Request: New.

Number of Respondents: 98,887.

Responses per Respondent: 2.

Annual Responses: 197,774.

Average Burden per Response: 15 minutes.

Annual Burden Hours: 49,444.

Needs and Uses: DD Form 2896-1 is used by certain Reserve Component members and retired members to purchase or make changes to coverage under the TRICARE Reserve Select and TRICARE Retired Reserve (TRR) health plan. Eligible beneficiaries must complete this form using the online Beneficiary Web Enrollment (BWE) portal. Each respondent (eligible Reserve Component members and retired members) is required to use the BWE portal to enroll, disenroll or change their enrollment. The information collected ensures a beneficiary is eligible for TRICARE and his/her TRICARE enrollment is correctly updated to reflect their TRICARE plan of choice, address, etc. If the beneficiary does use the form or BWE portal to enroll in a TRICARE plan option, the TRICARE beneficiary is defaulted into direct care only, limiting their health care options to only military hospitals and clinics.

Affected Public: Individuals or households.

Frequency: As required.

Respondent's Obligation: Voluntary.

OMB Desk Officer: Mr. Matt Eliseo.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: May 30, 2024.
Aaron T. Siegel,
Alternate OSD Federal Register Liaison Officer, Department of Defense.

[FR Doc. 2024-12393 Filed 6-5-24; 8:45 am]

BILLING CODE 6001-FR-P